DEPARTMENT OF ENERGY

Federal Energy Regulatory Commission

Notice of Intent to File Competing License Applications, Filing of Pre-Application Documents (PADs), Commencement of Pre-Filing Process, and Scoping; Request for Comments on the PADs and Scoping Document, and Identification of Issues and Associated Study Requests

January 28, 2011.

FirstEnergy Generation Corporation | P-2280-013
Seneca Nation of Indians | P-13889-000

a. Type of Filing: Notices of Intent to File Competing License Applications for a New License and Commencing Pre-Filing Process.

b. Project Nos.: 2280-013 & 13889-000.

c. Dated Filed: November 30, 2010.

d. Submitted By: Existing licensee—FirstEnergy Generation Corporation (FirstEnergy); and Competitor—Seneca Nation of Indians (Seneca Nation).

e. Name of Project: Existing Project—Kinzua Pumped Storage Project; Competing Project—Seneca Pumped Storage Project.

f. Location: On the United States Army Corps of Engineers Kinzua Dam, and the United States Forest Service Allegheny National Forest, adjacent to the Allegheny River and the Allegheny Reservoir near the City of Warren, in Warren County, Pennsylvania. The project occupies 221.59 acres of Federal lands.

g. Filed Pursuant to: 18 CFR Part 5 of the Commission's Regulations

h. Potential Applicants' Contacts:

For Project No. 2280-013: Morgan Parke, Federal Regulatory Attorney, FirstEnergy Corporation, 76 South Main Street, Akron, Ohio 44308.

For Project No. 13889-000: Wendy Huff, Executive Director Kinzua Dam Relicensing Commission, Seneca Nation of Indians, P.O. Box 231, 90 Ohi:yo' Way, Salamanca, NY 14779.

i. FERC Contact: Gaylord Hoisington at (202) 502-6032 or e-mail at gaylord.hoisington@ferc.gov.

j. Cooperating agencies: Federal, State, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with: (a) The U.S. Fish and Wildlife Service and/or NOAA Fisheries under section 7 of the Endangered Species Act and the joint agency regulations thereunder at 50 CFR, Part 402; and (b) the State Historic Preservation Officer, as required by section 106, National Historical Preservation Act, and the implementing regulations of the Advisory Council on Historic Preservation at 36 CFR 800.2.

l. With this notice, we are designating FirstEnergy and the Seneca Nation as the Commission's non-Federal representatives for carrying out informal consultation pursuant to section 7 of the Endangered Species Act and section 106 of the National Historic Preservation Act.

m. FirstEnergy and the Seneca Nation filed Pre-Application Documents (PADs; including a proposed process plan and schedule), pursuant to 18 CFR 5.6 of the Commission's regulations.

n. Copies of both PADs are available for review at the Commission in the Public Reference Room or may be viewed on the Commission's Web site (http://www.ferc.gov), using the “eLibrary” link. Enter the docket number, excluding the last three digits in the docket number field to access the documents. For assistance, contact FERC Online Support at FERCONlineSupport@ferc.gov or toll free at 1-866-208-3676, or for TTY, (202) 502-8659. Copies are also available for inspection and reproduction at the addresses in paragraph h.

Register online at http://www.ferc.gov/docs-filing/esubscription.asp to be notified via e-mail of new filing and issuances related to this or other pending projects. For assistance, contact FERC Online Support.

o. With this notice, we are soliciting comments on the PADs, the Commission staff's scoping document (SD) issued January 28, 2011, as well as study requests. All comments on the PADs, SD, and study requests should be sent to the addresses above in paragraph h. In addition, all comments on the PADs, SD, study requests, requests for cooperating agency status, and all communications to and from Commission staff related to the merits of the potential applications must be filed with the Commission. Documents may be filed electronically via the Internet. See 18 CFR 385.2001(a)(1)(iii) and the instructions on the

Commission's Web site (http://www.ferc.gov/docs-filing/efiling.asp. Commenters can submit brief comments up 6,000 characters, without prior registration, using the eComment system at http://www.ferc.gov/docs-filing/ecomment.asp You must include your name and contact information at the end of your comments. For assistance, please contact FERC Online Support. Although the Commission strongly encourages electronic filing, documents may also be paper-filed. To paper file, mail an original and seven copies to: Kimberly D. Bose, Secretary, Federal Energy Regulatory Commission, 888 First Street, NE., Washington, DC 20426.

All filings with the Commission must include, on the first page, the project name (Kinzua Pumped Storage Project) and number (P-2280-013), for FirstEnergy and/or (Seneca Pumped Storage Project) and number (P-13889-000), for the Seneca Nation, and bear the heading: “Comments on Pre-Application Document,” “Study Requests,” “Comments on Scoping Document,” “Request for Cooperating Agency Status,” or “Communications to and from Commission Staff.” Any individual or entity interested in submitting study requests, commenting on the PADs or SD, and any agency requesting cooperating status must do so by March 30, 2011.

p. Although our current intent is to prepare an environmental assessment (EA), there is the possibility that an Environmental Impact Statement (EIS) will be required. Nevertheless, this meeting will satisfy the NEPA scoping requirements, irrespective of whether an EA or EIS is issued by the Commission.

Scoping Meetings

Commission staff will hold three scoping meetings in the vicinity of the project at the time and place noted below. The morning and afternoon meetings will focus on resource agency, Indian tribes, and non-governmental organization concerns, while the evening meeting is primarily for receiving input from the public. We invite all interested individuals, organizations, and agencies to attend one or all three of the meetings, and to assist staff in identifying particular study needs, as well as the scope of environmental issues to be addressed in the environmental document. The times and locations of these meetings are as follows:

Morning Scoping Meeting

Date: Wednesday, February 23, 2011.

Time: 9 a.m. to 12 p.m.

Location: Holiday Inn, 210 Ludlow Street, Warren, Pa. 16365.

Phone: (814) 726-3000.

Evening Scoping Meeting

Date: Wednesday, February 23, 2011.

Time: 7 p.m. to 9 p.m.

Location: Holiday Inn, 210 Ludlow Street, Warren, Pa 16365.

Afternoon Scoping Meeting

Date: Thursday, February 24, 2011.

Time: 3 p.m. to 6 p.m.

Location: Salamanca City Central School District, 50 Iroquois Drive, Salamanca, NY 14779.

Phone: (716) 945-1790 ext. 3184.

The SD, which outlines the subject areas to be addressed in the environmental document, was mailed to the individuals and entities on the Commission's mailing lists and the distribution lists for FirstEnergy's and the Seneca Nation's PADs. Copies of the SD will be available at the scoping meetings, or may be viewed on the Web at http://www.ferc.gov, using the “eLibrary” link. Follow the directions for accessing information in paragraph n. Based on all oral and written comments, a Revised Scoping Document (RSD) may be issued. A RSD may include any revised process plan and schedule, as well as a list of issues, identified through the scoping process.

Site Visit

The potential applicants and Commission staff will conduct a site visit of the project facilities on Wednesday afternoon, February 23, 2011, starting at 1:30 p.m. All participants should meet at the Kinzua Project powerhouse. All participants will be responsible for providing their own method of transportation. The time and location of the site visit is as follows:

Date: Wednesday, February 23, 2011.

Time: 1:30 p.m. to 4 p.m.

Location: Kinzua Project Powerhouse, Warren, PA 16365.

Name: Laura Cowan.

Phone: (717) 983-4056.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting participants should come prepared to discuss their issues and/or concerns. Please review the PADs in preparation for the scoping meetings. Instructions on how to obtain copies of the PADs and SD are included in item n. of this document.

Meeting Procedures

The meetings will be recorded by a stenographer and will become part of the formal record of the Commission proceeding on the project.

Kimberly D. Bose,
Secretary.

[FR Doc. 2011-2484 Filed 2-3-11; 8:45 am]

BILLING CODE 6717-01-P